CENTRAL INTELLIGENCE AGENCY

Notice of Decennial Review of Operational Files Designations

AGENCY: Central Intelligence Agency.

ACTION: Notice of decennial review of CIA operational file designations.

SUMMARY: The Central Intelligence Agency (“CIA” or “the Agency”) is soliciting comments regarding the historical value of, or other public interest in, the CIA files designated by the Director of the Central Intelligence Agency (DCIA) pursuant to the CIA Information Act of 1984.

DATES: Comments must be received by June 16, 2025.

ADDRESSES: Comments may be submitted by the following methods: By mail to Michelle Y. Murphy-Bell, Director Enterprise Data Management, Central Intelligence Agency, Washington, DC 20505, or by fax to (703) 613-3007.

FOR FURTHER INFORMATION CONTACT: Michelle Y. Murphy-Bell, Director Enterprise Data Management, Central Intelligence Agency, telephone (703) 613-1287.

SUPPLEMENTARY INFORMATION: The CIA Information Act of 1984, codified in section 3141 of title 50 of the United States Code, authorizes the DCIA to designate certain operational files of the CIA Directorate of Operations (DO), Directorate of Science and Technology (DS&T), and Office of Security (OS) as exempt from the search, review, and disclosure provisions of the Freedom of Information Act. The statute defines operational files as:

1. Files of the DO that document the conduct of foreign intelligence or counterintelligence operations or intelligence or security liaison arrangements or information exchanges with foreign governments or their intelligence or security services;

2. Files of the DS&T that document the means by which foreign intelligence or counterintelligence is collected through scientific and technical systems; and

3. Files of the OS that document investigations conducted to determine the suitability of potential foreign intelligence or counterintelligence sources; except that files that are the sole repository of disseminated intelligence are not operational files.

The CIA Information Act of 1984 requires that, not less than once every ten years, the DCIA shall review the exemptions in force to determine whether such exemptions may be removed from any category of exempted files or any portion thereof. The last review was completed in November 2015. The following represents a summary of the general categories of operational files that have been maintained within the DO, the DS&T, and the OS since the last decennial review:

1. Files of the DO that document the intelligence sources and methods associated with various operational and foreign liaison activities, that document the conduct and management of various operational and foreign liaison activities, and that document the assessment of the viability of potential operational and foreign liaison activities and potential intelligence sources and methods;

2. Files of the DS&T that document the use of scientific and technical systems in the conduct of and in support of various operational and intelligence collection activities;

3. Files of the OS that document various aspects of the investigations conducted to determine the suitability of potential foreign intelligence or counterintelligence sources proposed for use in various operational activities.

The CIA is in the process of conducting the 2025 decennial review of its operational files to determine whether any of the previously designated files, or portions thereof, can be removed from any of the specified categories of exempted files. The CIA Information Act of 1984 requires that the decennial review “include consideration of the historical value or other public interest in the subject matter of the particular category of files or portions thereof and the potential for declassifying a significant part of the information contained therein.” In accordance with this requirement, the CIA hereby solicits comments for the DCIA's consideration during the decennial review of the CIA's operational files regarding the historical value of, or other public interest in, the subject matter of these particular categories of files or portions thereof described above.

Dated: May 7, 2025.
Michelle Y. Murphy-Bell,
Director, Enterprise Data Management, Central Intelligence Agency.

[FR Doc. 2025-08807 Filed 5-15-25; 8:45 am]

BILLING CODE 6310-02-P